DEPARTMENT OF COMMERCE

International Trade Administration

[C-357-813]

Honey from Argentina: Notice of Rescission of Countervailing Duty Administrative Review

AGENCY: Import Administration, International Trade Administration, U.S. Department of Commerce.

SUMMARY: On February 1, 2006, in response to a timely request from the American Honey Producers Association and the Sioux Honey Association (Petitioner), the Department of Commerce (the Department) initiated an administrative review of the countervailing duty order on honey from Argentina. See Initiation of Antidumping and Countervailing Duty Administrative Reviews and Request for Revocation in Part, 71 FR 5241 (February 1, 2006) (Initiation Notice). This administrative review covered the period January 1, 2005 through December 31, 2005. We are now rescinding this review as a result of Petitioner's withdrawal of its requests for an administrative review of this order.

EFFECTIVE DATE: March 28, 2006.

FOR FURTHER INFORMATION CONTACT: Dara Iserson or Elfi Blum, AD/CVD Operations, Office 6, Import Administration, International Trade Administration, US Department of Commerce, 14th Street and Constitution Avenue, NW., Room 7866, Washington, DC 20230; telephone: (202) 482-4052 and (202) 482-0197, respectively.

SUPPLEMENTARY INFORMATION:

Background

On December 1, 2005, the Department published a notice of “Opportunity to Request Administrative Review” of the countervailing duty order for the period of January 1, 2005 through December 31, 2005. See Antidumping or Countervailing Duty Oder, Finding, or Suspended Investigation; Opportunity to Request Administrative Review, 70 FR 72109 (December 1, 2005). On December 30, 2005, Petitioner requested a review of the countervailing duty order on honey from Argentina. In response to this request, on February 1, 2006, the Department initiated a countervailing duty administrative review on honey from Argentina. See Initiation Notice.

On March 6, 2006, pursuant to section 351.213(d)(1) of the Department's regulations, Petitioner withdrew its request for an administrative review of the countervailing duty order on honey from Argentina. No other party requested an administrative review of this countervailing duty order.

Rescission of the Administrative Review

Pursuant to section 351.213(d)(1) of the Department's regulations, the Secretary will rescind an administrative review, in whole or in part, if a party that requested the review withdraws the request within 90 days of the date of publication of notice of initiation of the requested review. The initiation notice for this review was published on February 1, 2006. We received Petitioner's withdrawal request on March 6, 2006, within 90 days after publication of the initiation notice. Since Petitioner withdrew its request for review of the countervailing duty order in a timely manner, and since it was the only party that requested a review, the Department is rescinding this administrative review. The Department will issue appropriate assessment instructions to U.S. Customs and Border Protection within 15 days of publication of this notice.

Administrative Protective Orders

This notice serves as a reminder to parties subject to administrative protective order (APO) of their responsibility concerning the disposition of proprietary information disclosed under APO in accordance with section 351.305(a)(3) of the Department's regulation. Timely written notification of the return or destruction of APO materials or conversion to judicial protective order is hereby requested. Failure to comply with the regulations and terms of an APO is a sanctionable violation.

This notice is issued and published in accordance with section 777(i) of the Act and section 351.213(d)(4) of the Department's regulations.

Dated: March 22, 2006.
Stephen J. Claeys,
Deputy Assistant Secretary for Import Administration.

[FR Doc. E6-4484 Filed 3-27-06; 8:45 am]

BILLING CODE 3510-DS-S